ENVIRONMENTAL PROTECTION AGENCY

40 CFR Part 52

[EPA-R05-OAR-2017-0081; FRL-9964-50-Region 5]

Air Plan Approval; Wisconsin; Site-Specific Sulfur Dioxide Requirements for USG Interiors, LLC

AGENCY: Environmental Protection Agency (EPA).

ACTION: Proposed rule.

SUMMARY: The Environmental Protection Agency (EPA) is proposing to approve under the Clean Air Act a State Implementation Plan (SIP) revision submitted by Wisconsin on January 31, 2017, and supplemented on March 20, 2017. This SIP submittal consists of Wisconsin Administrative Order AM-16-01, which imposes a requirement for a taller cupola exhaust stack, a sulfur dioxide (SO2) emission limit in conjunction with a minimum cupola stack flue gas flow rate, and associated requirements on the mineral wool production process at the USG Interiors LLC facility located in Walworth, Wisconsin (USG-Walworth). Wisconsin submitted this SIP revision to enable the area near USG-Walworth to qualify for being designated “attainment” of the 2010 primary SO2 National Ambient Air Quality Standards, a matter that will be addressed in a separate future rulemaking. EPA is approving AM-16-01 into the Wisconsin SIP, which makes the AM-16-01 requirements federally enforceable.

DATES: Comments must be received on or before August 7, 2017.

ADDRESSES: Submit your comments, identified by Docket ID No. EPA-R05-OAR-2017-0081 at http://www.regulations.gov, or via email to Aburano.Douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Jenny Liljegren, Physical Scientist, Attainment Planning and Maintenance Section, Air Programs Branch (AR-18J), Environmental Protection Agency, Region 5, 77 West Jackson Boulevard, Chicago, Illinois 60604, (312) 886-6832, Liljegren.Jennifer@epa.gov.

SUPPLEMENTARY INFORMATION: In the Final Rules section of this Federal Register, EPA is approving the State's SIP submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: June 20, 2017.
Robert A. Kaplan,
Acting Regional Administrator, Region 5.

[FR Doc. 2017-14213 Filed 7-6-17; 8:45 am]

BILLING CODE 6560-50-P